DEPARTMENT OF COMMERCE

National Oceanic and Atmospheric Administration

Research and Development Enterprise Committee (RDEC); Public Comment for the NOAA Research and Development Plan

AGENCY: Office of Oceanic and Atmospheric Research (OAR), National Oceanic and Atmospheric Administration (NOAA), Department of Commerce (DOC).

ACTION: Notice of public comment.

SUMMARY: This notice sets forth a public comment for NOAA's Research and Development (R&D) Plan set for release in 2019. NOAA R&D is an investment in the scientific knowledge and technology that will allow the United States to protect lives and property, adapt to challenges, sustain a strong economy, and manage natural resources. The R&D strategic plan will provide a common understanding among NOAA's leadership, workforce, partners, and constituents on the value and direction of NOAA R&D activities.

DATES: Comments are due by August 26, 2019.

ADDRESSES: Submit public comments via email to noaa.rdplan@noaa.gov. Include “NOAA R&D Plan Public Comment on Draft Plan” in the subject line of the message. All comments received are part of the public record. Please refer to the web page https://nrc.noaa.gov/CouncilProducts/ResearchPlans.aspx for the most up-to-date R&D plan draft document.

FOR FURTHER INFORMATION CONTACT: Dr. Gary Matlock, Deputy Assistant Administrator for Science, NOAA, Rm. 11461, 1315 East-West Highway, Silver Spring, Maryland 20910. (Phone: 301-734-1185, Email: gary.c.matlock@noaa.gov); or visit the NOAA RDEC website at https://nrc.noaa.gov/About/Committees.aspx.

SUPPLEMENTARY INFORMATION: Key vision statement areas of the plan include: (1) Reduced societal impacts from severe weather and other environmental phenomena; (2) Sustainable use of ocean and coastal resources; and (3) A robust and effective research, development, and transition enterprise. Comments may address the proposed vision statements, key questions, objectives, document structure, and other content and formatting aspects of the draft R&D Plan.

Authority: NAO 216-115A.

Dated: March 14, 2019.
David Holst,
Chief Financial Officer/Administrative Officer, Office of Oceanic and Atmospheric Research, National Oceanic and Atmospheric Administration.

Editorial note: This document was received for publication by the Office of the Federal Register on July 3, 2019.

[FR Doc. 2019-14621 Filed 7-11-19; 8:45 am]

BILLING CODE 3510-KD-P